DEPARTMENT OF TRANSPORTATION

National Highway Traffic Safety Administration

[Docket No. NHTSA-2004-19529; Notice 1]

Toyota Motor North America, Inc., Receipt of Petition for Decision of Inconsequential Noncompliance

Toyota Motor Corporation has determined that the daytime running lamps (DRLs) on certain vehicles it manufactured in 1998-2005 do not comply with S5.5.11(a) of 49 CFR 571.108, Federal Motor Vehicle Safety Standard (FMVSS) No. 108, “Lamps, reflective devices, and associated equipment.” Toyota Motor North America, Inc. (Toyota), on behalf of Toyota Motor Corporation, has filed an appropriate report pursuant to 49 CFR part 573, “Defect and Noncompliance Reports.”

Pursuant to 49 U.S.C. 30118(d) and 30120(h) and on behalf of Toyota Motor Corporation, Toyota has petitioned for an exemption from the notification and remedy requirements of 49 U.S.C. Chapter 301 on the basis that this noncompliance is inconsequential to motor vehicle safety.

This notice of receipt of Toyota's petition is published under 49 U.S.C. 30118 and 30120 and does not represent any agency decision or other exercise of judgment concerning the merits of the petition.

A total of approximately 75,355 model year 1998-2005 Lexus LX470 vehicles are affected. S5.5.11(a) of FMVSS No. 108 requires that

* * * each such lamp: (1) Has a luminous intensity not less than 500 candela at test point H-V, nor more than 3,000 candela at any location in the beam, when tested in accordance with Section S11 of this standard, unless it is: * * * (ii) An upper beam headlamp intended to operate as a DRL, whose luminous intensity at test point H-V is not more than 7,000 candela, and which is mounted not higher than 864 mm above the road surface as measured from the center of the lamp with the vehicle at curb weight.

The DRLs on the LX470s are provided by the upper beam headlamps operating at a lower intensity, with each lamp having a maximum luminous intensity of roughly 4,720 candela at the maximum point in the beam. However, the specification of the height above the road surface as measured from the center of the lamps with the vehicles at curb weight is 895 mm, and therefore the DRLs exceed the maximum luminous intensity specified in S5.5.11(a)(1)(ii) of FMVSS No. 108.

Toyota believes that the noncompliance is inconsequential to motor vehicle safety and that no corrective action is warranted. Toyota states the following in its petition.

Toyota conducted subjective evaluations of the glare from the DRLs using 19 contractors for the subject vehicles under various conditions, and confirmed that glare from the subject vehicles is the same or better than vehicles that were modified to meet the maximum DRL luminous intensity permitted by the standard at the height limit of 864 mm. Toyota evaluated the glare from the subject vehicles' DRLs by observing them through the rearview mirror of a small passenger car as well as directly, as from an oncoming vehicle. According to Toyota's evaluation, the subject vehicles received overall ratings above 5 (“lamps are just acceptable”). Accordingly, in the scale, higher numbers indicate less glare.

Toyota indicates in its petition that a rating of 1 indicates “The headlamps are unbearable,” while the highest rating of 9 indicates “The headlamps are just noticeable.”

Toyota further states,

Toyota calculated the luminous intensity of light from the DRLs striking the rearview mirror of the preceding vehicle mounted 1,120 mm (44 inches) above the ground and 6.1 m (20 feet) in front of the DRL. We also indicated the allowable range of the regulation. * * * The assessment mirror height of 44 inches and distance of 20 feet are the same used in NHTSA's own evaluation as described in the final rule published in the Monday, January 11, 1993 Federal Register (58 FR 3500). * * * [W]e can confirm that luminous intensity from the subject vehicle DRL (4,720 candela, 895 mm high) is below the maximum luminous intensity of allowable range up to 864 mm high.

Toyota says in its petition that the subject vehicles meet all requirements of the Canadian motor vehicle standards, and that it has received no customer complaints or reports that allege a crash, injury or fatality due to problems arising from DRL glare by these vehicles.

Interested persons are invited to submit written data, views, and arguments on the petition described above. Comments must refer to the docket and notice number cited at the beginning of this notice and be submitted by any of the following methods. Mail: Docket Management Facility, U.S. Department of Transportation, Nassif Building, Room PL-401, 400 Seventh Street, SW., Washington, DC, 20590-0001. Hand Delivery: Room PL-401 on the plaza level of the Nassif Building, 400 Seventh Street, SW., Washington, DC. It is requested, but not required, that two copies of the comments be provided. The Docket Section is open on weekdays from 10 a.m. to 5 p.m. except Federal Holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: December 13, 2004.

(Authority: 49 U.S.C. 30118, 30120: delegations of authority at CFR 1.50 and 501.8)

Issued on: November 5, 2004.
Kenneth N. Weinstein,
Associate Administrator for Enforcement.

[FR Doc. 04-25215 Filed 11-10-04; 8:45 am]

BILLING CODE 4910-59-P